DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1112.

Proposed Project: National Mental Health Services Survey (N-MHSS) (OMB No. 0930-0119)—Revision

The Substance Abuse and Mental Health Services Administration (SAMHSA), Center for Behavioral Health Statistics and Quality (CBHSQ) is requesting a revision to the National Mental Health Services Survey (N-MHSS) (OMB No. 0930-0119), which expires on January 31, 2020. The N-MHSS provides annual national and state-level data on the number and characteristics of mental health treatment facilities in the United States and biennial national and state-level data on the number and characteristics of persons treated in these facilities. The information in the N-MHSS is needed to assess the nature and extent of these resources, to identify gaps in services, and to provide a database for treatment referrals.

The request for OMB approval will include a request to conduct the N-MHSS and the between-survey updates in 2020, 2021, and 2022. This update is a procedure for collecting services data from newly identified facilities between main cycles of the survey and will be used to improve the listing of treatment facilities in the online Behavioral Health Treatment Services Locator.

The N-MHSS will provide updated information about facilities for SAMHSA's online Behavioral Health Treatment Services Locator (see: https://findtreatment.samhsa.gov), which was last updated with information from the N-MHSS in 2018. A full-scale N-MHSS will be conducted in 2020 and 2022 to collect (1) information about facilities needed for updating the online Locator, such as the facility name and address, specific services offered, and special client groups served and (2) additional information about client counts and the demographics of persons treated in these facilities. An abbreviated N-MHSS (N-MHSS-Locator Survey) will be conducted in 2021 only to update the information about facilities in the online Locator. Three small surveys are proposed for adding new facilities to the online Locator as they become known to SAMHSA. Both the 2021 N-MHSS-Locator Survey and the addition of new facilities to the online Locator will use the same N-MHSS-Locator Survey instrument.

This request for a revision seeks to change the content of the currently approved abbreviated N-MHSS (i.e., N-MHSS-Locator) survey instrument, and the previously approved 2018 full-scale N-MHSS (OMB No. 0930-0119) to accommodate two related N-MHSS activities:

(1) Collection of information from the total N-MHSS universe of mental health treatment facilities during 2020, 2021, and 2022; and

(2) collection of information on newly identified facilities throughout the year as they are identified so that new facilities can quickly be added to the online Locator.

The survey mode for both data collection activities will be web with telephone follow-up. A paper questionnaire will also be available to facilities who request one.

The database resulting from the N-MHSS will be used to update SAMHSA's online Behavioral Health Treatment Services Locator and to produce an electronic version of a national directory of mental health facilities, for use by the general public, behavioral health professionals, and treatment service providers. In addition, a data file derived from the survey will be used to produce a summary report providing national and state-level outcomes. The summary report and a public-use data file will be used by researchers, mental health professionals, State governments, the U.S. Congress, and the general public.

The request for OMB approval will include a request to conduct a full-scale N-MHSS in 2020 and 2022, and an abbreviated N-MHSS-Locator survey in 2021.

The following table summarizes the estimated annual response burden for the I-BHS and the N-MHSS:

Summary of Estimated Annual Burden for the N-MHSS
Facility respondent | Number of respondents | Responses per respondent | Average hours per Response | Total burden hours
Facilities in full-survey N-MHSS universe in 2020 and 2022 | 17,000 | 1 | 0.75 | 12,750
Newly identified facilities in Between-Survey Update in 2017, 2018, and 2019 1 2 | 1,700 | 1 | 0.42 | 714
Facilities in N-MHSS-Locator Survey universe in 2021 | 17,000 | 1 | 0.42 | 7,140
Average Annual Total | 18,700 | 1 | 0.59 | 11,118
¹ Throughout the year, approximately ten percent of facilities close or merge and a similar number of new facilities are identified.
² Collection of information on newly identified facilities throughout the year, as they are identified, so that new facilities can quickly be added to the Locator.

To stay current with the field and to collect policy relevant information, SAMHSA will add a series of questions about facilities offering pharmacotherapy for the treatment of serious mental illness (SMI), in particular information on the first- and second-generation antipsychotics used by these facilities. Also, a series of questions on crisis services were added to the survey. The N-MHSS will also be collecting information on facilities providing services to persons experiencing first episode psychosis (FEP), which was not asked in previous versions of the survey. In consultation with experts in the field, some categories and wording were updated to reflect current terminology in the field.

Written comments and recommendations concerning the proposed information collection should be sent by December 30, 2019 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2019-25871 Filed 11-27-19; 8:45 am]

BILLING CODE 4162-20-P